DEPARTMENT OF HOUSING AND URBAN DEVELOPMENT

[Docket No. FR-5279-N-01]

Notice of Proposed Information Collection: Supplemental Information to Application for Assistance Regarding Identification of Family Member, Friend or Other Person or Organization Supportive of a Tenant for Occupancy in HUD Assisted Housing

AGENCY: Office of the Assistant Secretary for Housing-Federal Housing Commissioner, and the Office of the Assistant Secretary for Public and Indian Housing, HUD.

ACTION: Notice.

SUMMARY: The proposed information collection requirement described in this notice pertains to supplemental information that housing providers participating in federally assisted housing, as defined in this notice, are required to give an individual or family applying for assisted housing the option to provide as part of their application for occupancy. The supplemental information would provide an individual or family applying for assistance under these programs with the option of including in the application for assistance the name, address, phone number, and other relevant information of a family member, friend, or person associated with a social, health, advocacy, or similar organization, who is familiar with and may assist with the services and special care needed by the individual or family, and assist in resolving any tenancy issues arising during the tenancy of such tenant. The supplemental information is to be maintained by the housing provider as confidential information. The housing provider may not require the individual or family applying for occupancy to provide the information. The information collection pertaining to this supplemental information will be submitted to the Office of Management and Budget (OMB) for review, as required by the Paperwork Reduction Act of 1995. HUD is soliciting public comments on the subject proposal.

DATES: Comments Due Date: March 23, 2009.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone 202-402-8048.

FOR FURTHER INFORMATION CONTACT: Willie Spearmon, Office of Multifamily Housing Programs, Office of Housing, Department of Housing and Urban Development, 451 7th Street, SW., Room 6134, Washington, DC 20410-8000; telephone 202-708-3000 (this is not a toll-free number). Dina Elani, Office of Public and Indian Housing, 451 7th Street, SW., Room 4224, Washington, DC 20410-4000; telephone number 202-402-2071 (this is not a toll-free number). Persons with hearing or speech disabilities may access both numbers through TTY by calling the toll-free Federal Information Relay Service at 800-877-8339.

SUPPLEMENTARY INFORMATION:

I. Background

Section 644 of the Housing and Community Development Act of 1992 (42 U.S.C. 13604) imposed on HUD the obligation to require housing providers participating in federally assisted housing to provide any individual or family applying for occupancy in HUD-assisted housing with the option to include in the application for occupancy the name, address, telephone number, and other relevant information of a family member, friend, or person associated with a social, health, advocacy, or similar organization. The federally assisted housing programs covered by this notice are listed in the matrix that accompanies this notice.

The objective of providing such information, if the information is provided, and if the applicant becomes a tenant, is to facilitate contact by the housing provider with the person or organization identified by the tenant, to assist in providing any delivery of services or special care to the tenant and assist with resolving any tenancy issues arising during the tenancy of such tenant. This supplemental application information is to be maintained by the housing provider and maintained as confidential information.

While this statutory requirement to notify applicants for occupancy in HUD-assisted housing of the option of providing such information is a long-standing one, HUD has discovered that applicants are not being consistently notified of the option to provide this information. Accordingly, HUD has determined that the best way to ensure that providers of federally assisted housing comply with this requirement is to require compliance through utilization of a standard form for housing providers to give to each applicant for occupancy that notifies them of their option to provide the information specified in section 644 of the Housing and Community Development Act of 1992, and provides for the information to be submitted. The standard form that HUD proposes for housing providers to use accompanies this notice.

II. Proposed Information Collection

To facilitate compliance with section 644 of the Housing and Community Development Act of 1992, HUD has designed a form that housing providers are required to provide to each applicant for occupancy that (1) notifies an applicant of the applicant's option to provide the information specified in section 644 of the Housing and Community Development Act of 1992, (2) provides for the information to be submitted, and (3) advises of the confidentiality of the information included on the form. This notice provides a listing and description of that information, as well as a sample document (that is a sample of the document in which required information may be presented to HUD), and HUD is submitting the proposed information collection to OMB, as required by the Paperwork Reduction Act of 1995 (44 U.S.C. Chapter 35), and is seeking review as allowed by the Paperwork Reduction Act of 1995.

This notice is soliciting comments from members of the public and affected agencies concerning the proposed collection of information to:

(1) Evaluate whether the proposed collection is necessary for the proper performance of the functions of the agency, including whether the information will have practical utility;

(2) Evaluate the accuracy of the agency's estimate of the burden of the proposed collection of information;

(3) Enhance the quality, utility, and clarity of the information to be collected; and

(4) Minimize the burden of the collection of information on those who are to respond; including the use of appropriate automated collection techniques or other forms of information technology, e.g., permitting electronic submission of responses.

Title of Proposal: Supplemental and Optional Contact Information for HUD-Assisted Housing Occupants.

OMB Control Number, if applicable: Pending.

Description of the need for the information and proposed use: HUD is proposing this information collection to ensure compliance with section 644 of the Housing and Community Development Act of 1992, as discussed in section I of this notice.

Agency form numbers, if applicable: HUD-Form 92006 (SAFAH).

Frequency of Submission: Once with each application for occupancy in a HUD-assisted housing project, at the applicant's option.

Estimation of the total numbers of hours needed to prepare the information collection including number of respondents, frequency of response, and hours of response.

Information to be collected is supplemental and optional contact information under the following programs | Number of respondents * | Number of responses per respondent | Estimated average time for requirement (in minutes) | Estimated annual burden (in hours)
Public Housing | 98,906 | 1 | .15 | 14,835.90
Tenant-Based Rental Vouchers | 188,898 | 1 | .15 | 28,334.70
Section 202 Project Rental Assistance Contracts (PRAC) | 17,852 | 1 | .15 | 2,677.80
Section 811 Project Rental Assistance Contracts (PRAC) | 5,968 | 1 | .15 | 895.20
Section 202/162 Project Assistance Contract (PAC) | 197 | 1 | .15 | 29.55
Section 8 Project-Based | 230,910 | 1 | .15 | 34,636.50
Section 236 | 7,504 | 1 | .15 | 1,125.60
Section 221(d)(3) Below Market Interest Rate (BMIR) | 499 | 1 | .15 | 74.85
Rent Supplement | 831 | 1 | .15 | 124.65
Rental Assistance Payment (RAP) | 1,143 | 1 | .15 | 171.45
Totals | 552,708 |  |  | 82,906.20
*Note: The number of respondents is the estimated number of total new admissions in the covered programs, and therefore the total number of potential respondents. However, not all newly admitted individuals and families may choose to complete Supplemental and Optional Contact Information for HUD-Assisted Housing Occupants.

Status of the proposed information collection: Pending OMB approval.

Authority: The Paperwork Reduction Act of 1995, 44 U.S.C., Chapter 35.

Dated: January 13, 2009.
Ronald A. Spraker,
General Deputy Assistant, Secretary for Housing—General Deputy, Federal Housing Commissioner.

OMB Control # 2502-xxxx

Exp. (xx/xx/xxxx)

Attachment A

Supplemental and Optional Contact Information for HUD-Assisted Housing Occupants

Supplement to Application for Federally Assisted Housing

This Form Is To Be Provided to Each Applicant for Federally Assisted Housing

Applicant Name:

Mailing Address:

Telephone No:

Optional Contact Person or Organization: You have the right by law to include, at your option and as part of your application for housing, the name, address, telephone number, and other relevant information of a family member, friend, or social, health, advocacy, or other organization. If you choose to exercise this option, please include the relevant information on this form.

Name of Additional Contact Person or Organization:

Relationship, if any, if individual is identified:

Address:

Telephone No:

E-mail address (if applicable) or other contact information:

Commitment of Housing Provider: If the applicant becomes a tenant of the federally assisted housing for which the applicant is providing, the information on this form shall be maintained during the period of the tenant's occupancy in federally assisted housing for the purpose of facilitating contact with such additional contact person or organization to assist in providing any services or special care for the tenant and to assist in resolving any relevant tenancy issues arising during the tenancy of such tenant.

Confidentiality Statement: The information provided on this form is confidential information and will not be disclosed to anyone else except as permitted by the applicant or applicable law.

Legal Notification: The option of an applicant to provide information regarding an additional contact person or organization is required to be offered to each applicant for federally assisted housing by section 644 of the Housing and Community Development Act of 1992 (Pub. L. 102-55, approved October 28, 1992). The housing provider accepting the applicant's application for assistance does not discriminate on the basis of race, sex, age, color, creed, religion, handicap, national origin, family composition or familial status in admission to, or participation in its federally assisted housing programs.

The information collection requirements contained in this form were submitted to the Office of Management and Budget (OMB) under the Paperwork Reduction Act of 1995 (44 U.S.C. 3501-3520). The public reporting burden is estimated at 15 minutes per response. In accordance with the Paperwork Reduction Act, an agency may not conduct or sponsor, and a person is not required to respond to, a collection of information, unless the collection displays a currently valid OMB control number.

HUD-Form 92006

SAFAH

[FR Doc. E9-1165 Filed 1-21-09; 8:45 am]

BILLING CODE 4210-67-P